COMMISSION ON CIVIL RIGHTS

Agenda and Notice of Public Meeting of the New York Advisory Committee

Dates and Times: Friday, May 8, 2015 at 12:00 p.m. [EDT]

Place: Via Teleconference. Public Dial-in 1-877-446-3914; Listen Line Code 2507069.

TDD: Dial Federal Relay Service 1-800-977-8339 give operator the Public Dial-In and Listen Line Code identified above.

Notice is hereby given, pursuant to the provisions of the rules and regulations of the U.S. Commission on Civil Rights (Commission) and the Federal Advisory Committee Act (FACA), that a planning meeting of the New York Advisory Committee to the Commission will convene via conference call. The purpose of the planning meeting is for the Advisory Committee to discuss plans to conduct a public meeting on the over policing of communities of color in New York.

The meeting will be conducted via conference call. Members of the public may listen to the discussion by calling the toll-free number Public Dial-in number and providing the Listen Line Code identified above. Persons with hearing impairments may also following the proceedings by first calling the Federal Relay Service number listed above and providing the toll-free number Public Dial-in number and the Listen Line Code identified above. Callers will incur no charges for calls they initiate over land line connections to the toll-free Public Dial-in number. Callers may incur charges for calls they initiate over wireless lines; the Commission will not refund any incurred charges.

Members of the public are entitled to submit written comments. The comments must be received in the regional office by Monday, June 8, 2015. Comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Records generated from this meeting may be inspected and reproduced at the Eastern Regional Office, as they become available, both before and after the meeting. Persons interested in the work of this advisory committee are advised to go to the Commission's Web site, www.usccr.gov, or to contact the Eastern Regional Office at the above phone number, email or street address.

The meeting will be conducted pursuant to the provisions of the rules and regulations of the Commission and FACA.

Dated: April 3, 2015.
David Mussatt,
Chief, Regional Programs Unit.

[FR Doc. 2015-08086 Filed 4-7-15; 8:45 am]

BILLING CODE 6335-01-P